DEPARTMENT OF TRANSPORTATION

Federal Aviation Administration

Public Notice for a Change in Use of Aeronautical Property at Lawrence Municipal Airport, Lawrence, MA

AGENCY: Federal Aviation Administration (FAA), DOT.

ACTION: Request for public comments.

SUMMARY: The FAA is requesting public comment on the City of Lawrence, Massachusetts' request to change a portion (40.37 acres) of Airport property from aeronautical use to non-aeronautical use. The property is located in North Andover, MA, off Clark Street in the area known of the Northwest quadrant of the Airport and is currently used for vacant land. The City plans to sell 17.44 acres and lease 22.9 acres for revenue production. Upon disposition is the property will be used as for development of an industrial park. Portions of the property were acquired under FAAP Project No. 9-19-007-0503 and ADAP Project No. 5-25-0026-06.

The disposition of proceeds from the disposal of airport property will be in accordance with FAA's Policy and Procedures Concerning the Use of Airport Revenue, published in the Federal Register on February 16, 1999.

DATES: Comments must be received on or before July 3, 2006.

ADDRESSES: Documents are available for review by appointment by contacting Mr. Michael Miller, Airport Manager at Lawrence Municipal Airport, 492 Sutton Street, North Andover, MA, Telephone 978-794-5880 or by contacting Donna R. Witte, Federal Aviation Administration, 16 New England Executive Park, Burlington, Massachusetts, Telephone 781-238-7624.

FOR FURTHER INFORMATION CONTACT: Donna R. Witte at the Federal Aviation Administration, 12 New England Executive Park, Burlington, Massachusetts 01803, Telephone 781-238-7624.

SUPPLEMENTARY INFORMATION: Section 125 of The Wendell H. Ford Aviation Investment and Reform Act for the 21st Century (AIR 21) requires the FAA to provide an opportunity for public notice and comment to the “waiver” or “modification” of a sponsor's Federal obligation to use certain airport property for aeronautical purposes.

Issued in Burlington, Massachusetts, on May 17, 2006.
LaVerne F. Reid,
Manager, Airports Division, New England Region.

[FR Doc. 06-5030 Filed 6-1-06; 8:45 am]

BILLING CODE 4910-13-M